DEPARTMENT OF THE INTERIOR

Bureau of Land Management

[ID-080-1120-PG]

Notice of Public Meeting, Upper Columbia-Salmon Clearwater Resource Advisory Council Meetings; Idaho

AGENCY: Bureau of Land Management, Interior.

ACTION: Notice of public meetings.

SUMMARY: In accordance with the Federal Land Policy and Management Act (FLPMA) and the Federal Advisory Committee Act of 1972 (FACA), the U.S. Department of the Interior, Bureau of Land Management (BLM) Upper Columbia-Salmon Clearwater (UCSC) District Resource Advisory Council (RAC) will meet as indicated below.

DATES: Three separate meetings are planned: October 16 and 17, 2002; March 12 and 13, 2003; and June 18 and 19, 2003. Each meeting will begin at 1 p.m. on the first day and end at approximately 5 p.m. on the second day. The public comment period will begin at approximately 3 p.m. on the first day of each meeting. Meetings will be held at the C'mon Inn, 2775 Expo Parkway, Missoula, Montana, because Missoula is centrally located for Council members traveling from the northern and south-central parts of Idaho.

FOR FURTHER INFORMATION CONTACT: Stephanie Snook, RAC Coordinator, BLM UCSC District, 1808 N. Third Street, Coeur d'Alene, Idaho 83814 or telephone (208) 769-5004.

SUPPLEMENTARY INFORMATION: The 15-member Council advises the Secretary of the Interior, through the Bureau of Land Management, on a variety of planning and management issues associated with public land management in Idaho. The following topics will be discussed at the October, 2002 meeting:

—Review past accomplishments, Nomination of Officers

—Idaho BLM Table of Organization and Goals

—Briefings on issues such as OHV use, Resource Management Plans and implementation, fire management, and noxious weeds.

—Future issues as identified by the Council

The meetings to be held in March and June 2003, will continue discussions or work on the above agenda items as well as other resource issues. Additional agenda items for the meetings in 2003 will be published in newspapers covering the BLM UCSC District prior to these meetings.

All meetings are open to the public. The public may present written comments to the Council. Each formal Council meeting will also have time allocated for hearing public comments. Depending on the number of persons wishing to comment and time available, the time for individual oral comments may be limited. Individuals who plan to attend and need special assistance, such as sign language interpretation, tour transportation or other reasonable accommodations, should contact the BLM as provided below.

Dated: July 10, 2002.
Jenifer L. Arnold,
Acting District Manager.

[FR Doc. 02-19053 Filed 7-26-02; 8:45 am]

BILLING CODE 4310-GG-P